DEPARTMENT OF COMMERCE

International Trade Administration

19 CFR Part 351

[Docket No.: 141104924-4924-01]

RIN 0625-AB01

Enforcement and Compliance; Change of Electronic Filing System Name

AGENCY: International Trade Administration, Department of Commerce.

ACTION: Final rule.

SUMMARY: The International Trade Administration's Enforcement and Compliance Unit publishes this rule to announce a change in the name of Enforcement and Compliance's electronic filing system from “IA ACCESS” to “ACCESS.” Consistent with this action, this rule makes appropriate conforming changes in part 351 of title 19 of the Code of Federal Regulations. This action is being taken to ensure that the regulations reflect the change in nomenclature from Import Administration to Enforcement and Compliance.

DATES: This rule is effective November 24, 2014.

FOR FURTHER INFORMATION CONTACT: Laura Merchant, IT Manager, Enforcement and Compliance, Telephone (202) 482-0367; Shana Hofstetter, Attorney, Office of Chief Counsel for Trade Enforcement and Compliance, Telephone: (202) 482-3414.

SUPPLEMENTARY INFORMATION: On October 1, 2013, as part of an internal consolidation within the International Trade Administration, the name of the Import Administration was changed to Enforcement and Compliance to reflect the unit's new operational mandate.¹ This rule updates the regulations to reflect the new name of Enforcement and Compliance's electronic filing system from “IA ACCESS” to “ACCESS”. This rule changes all references to IA ACCESS (Import Administration Antidumping and Countervailing Duty Centralized Electronic Service System) to ACCESS (Antidumping and Countervailing Duty Centralized Electronic Service System) in 19 CFR 351.303. Upon the effective date of this rule, the Web site is changed from https://iaaccess.trade.gov to https://access.trade.gov and the Help Desk email is changed from ia_access@trade.gov to access@trade.gov.

¹ See Import Administration; Change of Agency Name, 78 FR 62417 (Oct. 22, 2013).

Savings Provision

This rule shall constitute notice that all references to IA ACCESS (Import Administration Antidumping and Countervailing Duty Centralized Electronic Service System) in any documents, statements, or other communications, in any form or media, and whether made before, on, or after the effective date of this rule, shall be deemed to be references to ACCESS (Antidumping and Countervailing Duty Centralized Electronic Service System).

Rulemaking Requirements

1. This final rule has been determined to be not significant for purposes of review under Executive Order 12866.

2. This rule does not impose information collection and recordkeeping requirements. Consequently, it need not be reviewed by the Office of Management and Budget under the provisions of the Paperwork Reduction Act of 1995.

3. This rule does not contain policies with Federalism implications as that term is defined in Executive Order 13132.

4. Pursuant to 5 U.S.C. 553(b)(B), good cause exists to waive the provisions of the Administrative Procedure Act (5 U.S.C. 553) otherwise requiring notice of proposed rulemaking and the opportunity for public participation. This rule involves a nonsubstantive change to the regulations to update the name of Enforcement and Compliance's electronic filing system. This rule does not impact any substantive rights or obligations. The change implemented by this rule needs to be implemented without further delay to avoid the confusion caused by the reference to the previous organization name that is no longer contained in the name of the system, the Web site, and the Help Desk email address. No other law requires that a notice of proposed rulemaking and an opportunity for public comment be given for this final rule. Accordingly, this rule is issued in final form.

For the reasons listed above, the provision of the Administrative Procedure Act requiring a 30-day delay in effectiveness is also waived for good cause pursuant to 5 U.S.C. 553(d)(3) as this rule involves a nonsubstantive change to the regulations to update the name of Enforcement and Compliance's electronic filing system. This rule does not contain any provisions that require regulated entities to come into compliance and failure to implement it immediately might cause confusion.

5. Because a notice of proposed rulemaking and an opportunity for public comment are not required to be given for this rule under 5 U.S.C. or by any other law, the analytical requirements of the Regulatory Flexibility Act (5 U.S.C. 601, et seq.) are not applicable. Accordingly, no regulatory flexibility analysis is required and none has been prepared.

List of Subjects in 19 CFR Part 351

Administrative practice and procedure, Antidumping, Business and industry, Cheese, Confidential business information, Countervailing duties, Freedom of information, Investigations, Reporting and recordkeeping requirements.

For the reasons set out in the preamble, 19 CFR part 351 is amended as follows:

PART 351—ANTIDUMPING AND COUNTERVAILING DUTIES

1. The authority citation for part 351 continues to read as follows:

Authority: 5 U.S.C. 301; 19 U.S.C. 1202 note; 19 U.S.C. 1303 note; 19 U.S.C. 1671 et seq.; and 19 U.S.C. 3538.

§ 351.303 [AMENDED]

2. Amend § 351.303 to remove “IA ACCESS” wherever it appears and add in its place “ACCESS”.

Dated: November 17, 2014.
Paul Piquado,
Assistant Secretary for Enforcement and Compliance.

[FR Doc. 2014-27530 Filed 11-19-14; 8:45 am]

BILLING CODE P